DEPARTMENT OF THE INTERIOR

Bureau of Land Management

[LLIDI00000.L71220000.FM0000.LVTF7724IDOO (IDI-35073)]

Public Land Order No. 7772; Partial Revocation of the Executive Order dated April 17, 1926; Idaho

Correction

In notice document 2011-16401 appearing on pages 38206-38207 in the issue of June 29, 2011, make the following correction:

On page 38207, in the first column, under Boise Meridian, Sec. 11, lot 1 should read “SE1/4NW1/4, NE1/4NE1/4SW1/4, W1/2NE1/4SW1/4, and E1/2SE1/4NE1/4SW1/4;”.

[FR Doc. C1-2011-16401 Filed 7-8-11; 8:45 am]

BILLING CODE 1505-01-D